NATIONAL COUNCIL ON DISABILITY

Sunshine Act Meetings

Type: Quarterly Meeting.

Dates and Times:

January 28, 2008, 11 a.m.-6 p.m.

January 29, 2008, 8:30 a.m.-5 p.m.

January 30, 2008, 8:30 a.m.-4:45 p.m.

Location: New Orleans Marriott/Convention Center, 859 Convention Center Blvd., LA.

Status:

January 28, 2008, 11 a.m.-5:30 p.m.—Open.

January 28, 2008, 5:30 p.m.-6 p.m.—Closed Executive Session.

January 29, 2008, 8:30 a.m.-5 p.m.—Open.

January 30, 2008, 8:30 a.m.-4:45 p.m.—Open.

Agenda: News Conference to Release The No Child Left Behind Act and the Individuals with Disabilities Education Act: A Progress Report; Public Comment Sessions; Emergency Preparedness Panel Discussion; Health Care Panel Discussion; Reports from the Chairperson, Council Members, and the Executive Director; Unfinished Business; New Business; Announcements; Adjournment.

Sunshine Act Meeting Contact: Mark S. Quigley, Director of Communications, NCD, 1331 F Street, NW., Suite 850, Washington, DC 20004; 202-272-2004 (voice), 202-272-2074 (TTY), 202-272-2022 (fax).

Agency Mission: NCD is an independent federal agency and is composed of 15 members appointed by the President, by and with the advice and consent of the Senate. NCD provides advice to the President, Congress, and executive branch agencies promoting policies, programs, practices, and procedures that (A) guarantee equal opportunity for all individuals with disabilities, regardless of the nature or severity of the disability; and (B) empower individuals with disabilities to achieve economic self-sufficiency, independent living, and inclusion and integration into all aspects of society.

Accommodations: Those needing reasonable accommodations should notify NCD immediately.

Language Translation: In accordance with E.O. 13166, Improving Access to Services for Persons with Limited English Proficiency, those people with disabilities who are limited English proficient and seek translation services for these meetings should notify NCD immediately.

Dated: January 3, 2008.
Michael C. Collins,
Executive Director.

[FR Doc. 08-57 Filed 1-4-08; 4:24 pm]

BILLING CODE 6820-MA-P